SMALL BUSINESS ADMINISTRATION

[Disaster Declaration #15896 and #15897; NEBRASKA Disaster Number NE-00073]

Presidential Declaration Amendment of a Major Disaster for the State of Nebraska

AGENCY: U.S. Small Business Administration.

ACTION: Amendment 2.

SUMMARY: This is an amendment of the Presidential declaration of a major disaster for the State of Nebraska (FEMA-4420-DR), dated 03/21/2019.

Incident: Severe Winter Storm, Straight-line Winds, and Flooding.

Incident Period: 03/09/2019 and continuing.

DATES: Issued on 04/10/2019.

Physical Loan Application Deadline Date: 05/20/2019.

Economic Injury (EIDL) Loan Application Deadline Date: 12/23/2019.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW, Suite 6050, Washington, DC 20416, (202) 205-6734.

SUPPLEMENTARY INFORMATION: The notice of the President's major disaster declaration for the State of Nebraska, dated 03/21/2019, is hereby amended to include the following areas as adversely affected by the disaster:

Primary Counties (Physical Damage and Economic Injury Loans): Antelope, Boyd, Burt, Cuming, Hall, Howard, Madison, Nance, Pierce, Platte, Saline, Stanton.

Contiguous Counties (Economic Injury Loans Only):

Nebraska: Fillmore, Gage, Hamilton, Jefferson, Keya Paha, Merrick, Rock, Thayer.

South Dakota: Gregory

All other information in the original declaration remains unchanged.

(Catalog of Federal Domestic Assistance Number 59008)

James Rivera,
Associate Administrator for Disaster Assistance.

[FR Doc. 2019-07654 Filed 4-16-19; 8:45 am]

BILLING CODE 8025-01-P